DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 12, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Improving Coordination Between SNAP and Medicaid in State Agencies.

OMB Control Number: 0584-NEW.

Summary of Collection: SNAP and Medicaid serve similar populations, which provides opportunities for State Agencies administering the programs to coordinate policies and processes to improve efficiency, customer service, and program access. This study will conduct case studies in up to five states to understand the challenges with improving program coordination and highlight the best practices that could be shared with other states.

Need and Use of the Information: FNS has identified five objectives for this study:

1. Identify and describe relevant federal statutory, regulatory, and operational barriers and facilitators that have considerable impact on coordination between SNAP and Medicaid agencies.

2. Identify and describe relevant State statutory, regulatory, and operational barriers and facilitators that have considerable impact on coordination between SNAP and Medicaid agencies.

3. Identify and describe systems used by States to determine eligibility and manage SNAP and Medicaid application and recertification information.

4. Identify and describe similarities and differences in State SNAP and Medicaid applications.

5. Using information collected from Objectives 1-4, develop a Best Practices Guide that explains how States can better improve coordination between SNAP and Medicaid.

Description of Respondents: State and Local Government, Businesses or other For- Profit and Not-for-Profit.

Number of Respondents: 180.

Frequency of Responses: Reporting: Once.

Total Burden Hours: 184.

Levi S. Harrell,
Departmental Information Collection Clearance Officer.

[FR Doc. 2024-00444 Filed 1-10-24; 8:45 am]

BILLING CODE P